DEPARTMENT OF ENERGY

Federal Energy Regulatory Commission

Combined Notice of Filings #1

Take notice that the Commission received the following electric rate filings:

Docket Numbers: ER11-3519-001.

Applicants: NedPower Mount Storm, L.L.C.

Description: NedPower Mount Storm, L.L.C. submits tariff filing per 35: Compliance Filing—MBR Tariff Order of Affiliate Restrictions to be effective 10/26/2011.

Filed Date: 10/26/2011.

Accession Number: 20111026-5019.

Comment Date: 5 p.m. Eastern Time on Wednesday, November 16, 2011.

Docket Numbers: ER11-4128-000.

Applicants: Michigan Electric Transmission Company, LLC.

Description: Michigan Electric Transmission Company, LLC submits tariff filing per 35.19a(b): Filing of a Refund Report to be effective N/A.

Filed Date: 10/26/2011.

Accession Number: 20111026-5043.

Comment Date: 5 p.m. Eastern Time on Wednesday, November 16, 2011.

Docket Numbers: ER11-4479-001.

Applicants: Endure Energy, L.L.C.

Description: Endure Energy, L.L.C. submits tariff filing per 35: Compliance filing to baseline refile to be effective 10/26/2011.

Filed Date: 10/26/2011.

Accession Number: 20111026-5002.

Comment Date: 5 p.m. Eastern Time on Wednesday, November 16, 2011.

Docket Numbers: ER12-191-000.

Applicants: ISO New England Inc.

Description: ISO New England Inc. submits tariff filing per 35.13(a)(2)(iii): 2012 Administrative Cost Filing to be effective 1/1/2012.

Filed Date: 10/26/2011.

Accession Number: 20111026-5013.

Comment Date: 5 p.m. Eastern Time on Wednesday, November 16, 2011.

Docket Numbers: ER12-192-000.

Applicants: Liberty Electric Power, LLC.

Description: Liberty Electric Power, LLC submits tariff filing per 35: Revisions to Market-Based Rate Tariff to be effective 12/25/2011.

Filed Date: 10/26/2011.

Accession Number: 20111026-5018.

Comment Date: 5 p.m. Eastern Time on Wednesday, November 16, 2011.

Docket Numbers: ER12-193-000.

Applicants: Fowler Ridge Wind Farm LLC.

Description: Fowler Ridge Wind Farm LLC submits tariff filing per 35: Compliance Filing—MBR Tariff Order of Affiliate Restrictions to be effective 10/26/2011.

Filed Date: 10/26/2011.

Accession Number: 20111026-5020.

Comment Date: 5 p.m. Eastern Time on Wednesday, November 16, 2011.

Docket Numbers: ER12-194-000.

Applicants: PJM Interconnection, L.L.C.

Description: PJM Interconnection, L.L.C. submits tariff filing per 35.13(a)(2)(iii): Original Service Agreement No. 3083—Queue No. W3-136 to be effective 9/26/2011.

Filed Date: 10/26/2011.

Accession Number: 20111026-5065.

Comment Date: 5 p.m. Eastern Time on Wednesday, November 16, 2011.

Docket Numbers: ER12-195-000.

Applicants: PJM Interconnection, L.L.C.

Description: Request for Waiver of PJM Interconnection, L.L.C..

Filed Date: 10/26/2011.

Accession Number: 20111026-5068.

Comment Date: 5 p.m. Eastern Time on Wednesday, November 2, 2011.

Docket Numbers: ER12-196-000.

Applicants: PJM Interconnection, L.L.C.

Description: PJM Interconnection, L.L.C. submits tariff filing per 35.13(a)(2)(iii): Original Service Agreement No. 3084—Queue No. W3-138 to be effective 9/26/2011.

Filed Date: 10/26/2011.

Accession Number: 20111026-5082.

Comment Date: 5 p.m. Eastern Time on Wednesday, November 16, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2011.
Nathaniel J. Davis, Sr.,
Deputy Secretary.

[FR Doc. 2011-28341 Filed 11-1-11; 8:45 am]

BILLING CODE 6717-01-P